DEPARTMENT OF ENERGY

Federal Energy Regulatory Commission

Combined Notice of Filings #1

Take notice that the Commission received the following exempt wholesale generator filings:

Docket Numbers: EG25-311-000.

Applicants: Bexar ESS LLC.

Description: Bexar ESS LLC submits Notice of Self-Certification of Exempt Wholesale Generator Status.

Filed Date: 5/5/25.

Accession Number: 20250505-5256.

Comment Date: 5 p.m. ET 5/27/25.

Take notice that the Commission received the following electric rate filings:

Docket Numbers: ER10-2727-011; ER10-1451-013; ER10-1467-014 ER10-1469-013; ER10-2687-013; ER10-2688-016 ER10-2728-015; ER11-3907-007; ER24-172-005.

Applicants: FirstEnergy Pennsylvania Electric Company, The Toledo Edison Company, Green Valley Hydro, LLC, The Potomac Edison Company, Monongahela Power Company, The Cleveland Electric Illuminating Company, Ohio Edison Company, Jersey Central Power & Light, Allegheny Energy Supply Company, LLC.

Description: Notice of Non-Material Change in Status of Allegheny Energy Supply Company, LLC, et al. under ER10-2727.

Filed Date: 4/30/25.

Accession Number: 20250430-5696.

Comment Date: 5 p.m. ET 5/21/25.

Docket Numbers: ER13-2386-011; ER10-2806-013; ER10-2818-013 ER10-2847-010; ER18-1984-007; ER21-2712-004.

Applicants: Heartland Generation Ltd., Big Level Wind LLC, TransAlta Centralia Generation LLC, TransAlta Energy Marketing Corporation, TransAlta Energy Marketing (U.S.) Inc., Lakeswind Power Partners, LLC.

Description: Notice of Change in Status of Lakeswind Power Partners, LLC, et al.

Filed Date: 4/30/25.

Accession Number: 20250430-5705.

Comment Date: 5 p.m. ET 5/21/25.

Docket Numbers: ER16-700-009.

Applicants: CPV Towantic, LLC.

Description: Notice of Change in Status of CPV Towantic, LLC.

Filed Date: 4/30/25.

Accession Number: 20250430-5701.

Comment Date: 5 p.m. ET 5/21/25.

Docket Numbers: ER16-1999-003; ER11-4625-009; ER14-608-007 ER16-1644-007; ER16-1998-003; ER16-2000-003 ER16-2001-003; ER16-2002-003; ER16-2003-003 ER16-2006-003; ER19-537-006; ER24-1653-001 ER24-2557-002; ER24-2558-001; ER24-2559-002.

Applicants: Malaga BESS LLC, Hanford BESS LLC, Henrietta BESS LLC, MRP Pacifica Marketing LLC, MRP San Joaquin Energy, LLC, CalPeak Power—Vaca Dixon LLC, CalPeak Power—Panoche LLC, Midway Peaking, LLC, Malaga Power, LLC, CalPeak Power—Enterprise LLC, CalPeak Power—Border LLC, MRP Generation Holdings, LLC, High Desert Power Project, LLC, Colton Power L.P., CalPeak Power LLC.

Description: Notice of Non-Material Change in Status of CalPeak Power LLC, et al.

Filed Date: 4/30/25.

Accession Number: 20250430-5695.

Comment Date: 5 p.m. ET 5/21/25.

Docket Numbers: ER17-556-008; ER23-2469-003; ER10-1362-009 ER11-3959-011; ER12-726-011; ER12-2639-013 ER15-1019-011; ER17-104-010; ER17-105-010 ER18-2158-005; ER21-2330-003; ER21-2331-003 ER21-2333-003; ER21-2336-003; ER22-2703-006.

Applicants: Pattern Energy Management Services LLC, Tecolote Wind LLC, Red Cloud Wind LLC, Duran Mesa LLC, Clines Corners Wind Farm LLC, Stillwater Wind, LLC, Broadview Energy JN, LLC, Broadview Energy KW, LLC, Fowler Ridge IV Wind Farm LLC, Ocotillo Express LLC, Spring Valley Wind LLC, Post Rock Wind Power Project, LLC, Hatchet Ridge Wind, LLC, Lost Creek Wind, LLC, Grady Wind Energy Center, LLC.

Description: Notice of Change in Status of Grady Wind Energy Center, LLC, et al.

Filed Date: 4/30/25.

Accession Number: 20250430-5700.

Comment Date: 5 p.m. ET 5/21/25.

Docket Numbers: ER20-391-013; ER21-2557-008; ER22-2662-008 ER22-2663-008; ER22-2664-008; ER23-1275-006 ER23-1276-006; ER23-1277-006; ER24-1276-004 ER24-2249-004; ER24-2250-004; ER24-2251-003 ER24-2854-002; ER24-2855-002; ER24-2856-002 ER25-938-001; ER25-939-001; ER25-940-001 ER25-1422-001.

Applicants: Aron Energy Prepay 57 LLC, Aron Energy Prepay 53 LLC, Aron Energy Prepay 52 LLC, Aron Energy Prepay 51 LLC, Aron Energy Prepay 46 LLC, Aron Energy Prepay 45 LLC, Aron Energy Prepay 44 LLC, Aron Energy Prepay 43 LLC, Aron Energy Prepay 42 LLC, Aron Energy Prepay 41 LLC, Aron Energy Prepay 35 LLC, Aron Energy Prepay 23 LLC, Aron Energy Prepay 22 LLC, Aron Energy Prepay 21 LLC, Aron Energy Prepay 16 LLC, Aron Energy Prepay 15 LLC, Aron Energy Prepay 14 LLC, Aron Energy Prepay 5 LLC, J. Aron & Company LLC.

Description: Notice of Non-Material Change in Status of J. Aron & Company LLC, et al.

Filed Date: 4/30/25.

Accession Number: 20250430-5697.

Comment Date: 5 p.m. ET 5/21/25.

Docket Numbers: ER21-2445-005; ER23-2716-003; ER25-561-001 ER25-562-001.

Applicants: Winfield Solar I, LLC, Crossover Wind LLC, Moraine Sands Wind Power, LLC, Glacier Sands Wind Power, LLC.

Description: Notice of Non-Material Change in Status of Glacier Sands Wind Power, LLC, et al.

Filed Date: 4/30/25.

Accession Number: 20250430-5704.

Comment Date: 5 p.m. ET 5/21/25.

Docket Numbers: ER21-2557-009; ER22-2662-009; ER22-2663-009 ER22-2664-009; ER23-1275-007; ER23-1276-007 ER24-2249-005; ER24-2251-004; ER24-2854-003 ER24-2855-003; ER24-2856-003.

Applicants: Aron Energy Prepay 46 LLC, Aron Energy Prepay 45 LLC, Aron Energy Prepay 44 LLC, Aron Energy Prepay 43 LLC, Aron Energy Prepay 41 LLC, Aron Energy Prepay 22 LLC, Aron Energy Prepay 21 LLC, Aron Energy Prepay 16 LLC, Aron Energy Prepay 15 LLC, Aron Energy Prepay 14 LLC, Aron Energy Prepay 5 LLC.

Description: Notice of Non-Material Change in Status of Aron Energy Prepay 5 LLC, et al.

Filed Date: 4/30/25.

Accession Number: 20250430-5699.

Comment Date: 5 p.m. ET 5/21/25.

Docket Numbers: ER22-2784-008; ER14-41-014; ER14-42-014; ER16-498-013; ER16-499-013; ER16-500-013 ER16-2277-007; ER16-2289-008; ER18-1174-008; ER20-2448-009; ER21-133-009; ER21-736-010; ER21-1962-010; ER21-2634-008; ER25-590-002.

Applicants: Pome BESS LLC, Solar Star Lost Hills, LLC, Mulberry BESS LLC, RE Slate 1 LLC, HDSI, LLC, American Kings Solar, LLC, Imperial Valley Solar 2, LLC, Golden Fields Solar I, LLC, Solar Star California XLI, LLC, RE Mustang 4 LLC, RE Mustang 3 LLC, RE Mustang LLC, RE Rosamond Two LLC, RE Rosamond One LLC, MN8 Energy Marketing LLC.

Description: Notice of Non-Material Change in Status of MN8 Energy Marketing LLC, et al.

Filed Date: 4/30/25.

Accession Number: 20250430-5702.

Comment Date: 5 p.m. ET 5/21/25.

Docket Numbers: ER22-2784-009; ER21-632-004; ER22-2827-005 ER23-108-003; ER23-2967-003.

Applicants: Pome BESS LLC, Solar Star Lost Hills, LLC, Mulberry BESS LLC, RE Slate 1 LLC, HDSI, LLC, American Kings Solar, LLC, Imperial Valley Solar 2, LLC, Golden Fields Solar I, LLC, Solar Star California XLI, LLC, RE Mustang 4 LLC, RE Mustang 3 LLC, RE Mustang LLC, RE Rosamond Two LLC, RE Rosamond One LLC, MN8 Energy Marketing LLC.

Description: Notice of Non-Material Change in Status of MN8 Energy Marketing LLC, et al.

Filed Date: 4/30/25.

Accession Number: 20250430-5703.

Comment Date: 5 p.m. ET 5/21/25.

Docket Numbers: ER23-2091-004.

Applicants: Goleta Energy Storage, LLC.

Description: Notice of Non-Material Change in Status of Goleta Energy Storage, LLC.

Filed Date: 4/30/25.

Accession Number: 20250430-5698.

Comment Date: 5 p.m. ET 5/21/25.

Docket Numbers: ER25-2158-000.

Applicants: PJM Interconnection, L.L.C.

Description: § 205(d) Rate Filing: Original GIA, Service Agreement No. 7664; AG1-483 to be effective 4/4/2025.

Filed Date: 5/5/25.

Accession Number: 20250505-5197.

Comment Date: 5 p.m. ET 5/27/25.

Docket Numbers: ER25-2159-000.

Applicants: Duke Energy Progress, LLC.

Description: Tariff Amendment: DEP—NCEMC Notice of Termination of the Reimbursement Agreement RS No. 449 to be effective 7/5/2025.

Filed Date: 5/5/25.

Accession Number: 20250505-5200.

Comment Date: 5 p.m. ET 5/27/25.

Docket Numbers: ER25-2160-000.

Applicants: PJM Interconnection, L.L.C.

Description: § 205(d) Rate Filing: Amendment to ISA, SA No. 7087; Queue No. AF1-062 (amend) to be effective 7/6/2025.

Filed Date: 5/6/25.

Accession Number: 20250506-5042.

Comment Date: 5 p.m. ET 5/27/25.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 6, 2025.
Carlos D. Clay,
Deputy Secretary.

[FR Doc. 2025-08261 Filed 5-9-25; 8:45 am]

BILLING CODE 6717-01-P